DEPARTMENT OF COMMERCE

Patent and Trademark Office

Agency Information Collection Activities; Submission to the Office of Management and Budget (OMB) for Review and Approval; Comment Request; Patent Petitions Related to Application and Reexamination Processing Fees

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on February 15, 2024 during a 60-day comment period (89 FR 11819). This notice allows for an additional 30 days for public comment.

Agency: United States Patent and Trademark Office, Department of Commerce.

Title: Patent Petitions Related to Application and Reexamination Processing Fees.

OMB Control Number: 0651-0059.

Needs and Uses: The United States Patent and Trademark Office (USPTO) is required by 35 U.S.C. 131 et seq. to examine an application for patent and, when appropriate, issue a patent. The USPTO also is required to publish patent applications, with certain exceptions, promptly after the expiration of a period of eighteen months from the earliest filing date for which a benefit is sought under Title 35, United States Code.

USPTO petitions practice provides an opportunity for a patent applicant or owner to supply additional information that may be required in order for the USPTO to further process an application or patent. For other USPTO actions, review is in the form of administrative review obtained via submission of a petition to the USPTO. Many actions taken by the USPTO during its examination of an application for patent or for reissue of a patent, or during reexamination of a patent, are subject to review by an appeal to the Patent Trial and Appeal Board (PTAB). Appeals to PTAB are covered in other OMB approved information collections (0651-0063 and 0651-0069).

This information collection covers petitions filed in patent applications and reexamination proceedings that, when submitted to the USPTO, must be accompanied by the fee set forth in 37 CFR 1.17(f), (g), or (h). This information collection also covers the transmittals for the petition fees.

Forms: (AIA = America Invents Act; SB = Specimen Book)

• PTO/AIA/17p (Processing Fee Under 37 CFR 1.17(f), (g), & (h) Transmittal)

• PTO/SB/23 (Petition for Extension of Time Under 37 CFR 1.136(b))

• PTO/SB/24A (Petition for Express Abandonment to Avoid Publication Under 37 CFR 1.138(c))

• PTO/SB/28 (Petition to Make Special Under Accelerated Examination Program)

• PTO/SB/140 (Petition to Withdraw an Application From Issue After Payment of the Issue Fee Under 37 CFR 1.313(c))

Type of Review: Extension and revision of a currently approved information collection.

Affected Public: Private sector.

Respondent's Obligation: Required to obtain or retain benefits.

Frequency: On occasion.

Estimated Number of Annual Respondents: 50,953 respondents.

Estimated Number of Annual Responses: 50,953 responses.

Estimated Time per Response: The USPTO estimates that the responses in this information collection will take the public approximately between 12 minutes (0.20 hours) and 12 hours to complete. This includes the time to gather the necessary information, create the document, and submit the completed request to the USPTO.

Estimated Total Annual Respondent Burden Hours: 82,237 hours.

Estimated Total Annual Respondent Non-Hourly Cost Burden: $4,023,729.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0059.

Further information can be obtained by:

• Email: InformationCollection@uspto.gov. Include “0651-0059 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2024-10659 Filed 5-14-24; 8:45 am]

BILLING CODE 3510-16-P